ENVIRONMENTAL PROTECTION AGENCY

40 CFR Part 300

[EPA-HQ-SFUND-1989-0008; FRL-9729-9]

National Oil and Hazardous Substances Pollution Contingency Plan; National Priorities List: Deletion of the New Hanover County Airport Burn Pit Superfund Site

AGENCY: Environmental Protection Agency.

ACTION: Final rule.

SUMMARY: The Environmental Protection Agency Region 4 announces the deletion of the New Hanover County Airport Burn Pit Superfund Site (Site) located in Wilmington, North Carolina, from the National Priorities List (NPL). The NPL, promulgated pursuant to Section 105 of the Comprehensive Environmental Response, Compensation, and Liability Act (CERCLA) of 1980, as amended, is an appendix of the National Oil and Hazardous Substances Pollution Contingency Plan (NCP). EPA and the State of North Carolina, through the North Carolina Department of Environment and Natural Resources (DENR), have determined that all appropriate response actions under CERCLA have been completed. However, this deletion does not preclude future actions under Superfund.

DATES: This action is effective September 20, 2012.

ADDRESSES: EPA has established a docket for this action under Docket Identification No. EPA-HQ-SFUND-1989-0008. All documents in the docket are listed on the http://www.regulations.gov Web site. Although listed in the index, some information is not publicly available, e.g., CBI or other information whose disclosure is restricted by statute. Certain other material, such as copyrighted material, is not placed on the Internet and will be publicly available only in the hard copy form. Publicly available docket materials are available either electronically through http://www.regulations.gov or in hard copy at the site information repositories.

Locations, contacts, phone numbers and viewing hours are:

Regional Site Information Repository: U.S. EPA Record Center, Attn: Ms. Debbie Jourdan, Atlanta Federal Center, 61 Forsyth Street SW., Atlanta, Georgia 30303-8960. Hours of Operation 8 a.m.-4 p.m. (by appointment only) Monday through Friday.

Local Site Information Repository: New Hanover County Public Library 28401, 201 Chestnut Street, Wilmington, North Carolina 28401.

Hours of operation: 9 a.m.-8 p.m., Monday and Tuesday, 9 a.m.-6 p.m., Wednesday and Thursday, 9 a.m.-5 p.m. Friday and Saturday, closed on Sunday.

FOR FURTHER INFORMATION CONTACT: Beverly Hudson-Stepter, Remedial Project Manager, U.S. Environmental Protection Agency, Region 4, 61 Forsyth Street SW., Atlanta, Georgia 30303. Contact No: (404) 562-8816. Electronic mail at: stepter.beverly@epa.gov.

SUPPLEMENTARY INFORMATION: The site to be deleted from the NPL is: New Hanover County Airport Burn Pit Superfund Site located in Wilmington, North Carolina. A Notice of Intent To Delete was published in the Federal Register on June 22, 2012.

The closing date for comments on the Notice of Intent to Delete was July 22, 2012. No public comments were received during the comment period. Therefore, a responsiveness summary was not prepared and placed in the docket, EPA-R04-SFUND-2012-0091, on www.regulations.gov, or in the repositories listed above.

EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection; Air pollution control; Chemicals; Hazardous substances, Hazardous waste, Intergovernmental relations, Penalties, Reporting and recordkeeping requirements, Superfund, Water pollution control, Water supply.

Dated: August 27, 2012.
Gwendolyn Keyes Fleming,
Regional Administrator, Region 4.

For reasons set out in the preamble, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

2. Table 1 of Appendix B to Part 300 is amended by removing “New Hanover County Airport Burn Pit Site,” “Wilmington, North Carolina.”

[FR Doc. 2012-23153 Filed 9-19-12; 8:45 am]

BILLING CODE 6560-50-P